SOCIAL SECURITY ADMINISTRATION

[Docket No. SSA-2025-0017]

Privacy Act of 1974; System of Records

AGENCY: Social Security Administration (SSA).

ACTION: Notice of a modified system of records.

SUMMARY: In accordance with the Privacy Act of 1974, we are issuing public notice of our intent to modify an existing system of records entitled, Administrative Law Judge/Public Alleged Misconduct Complaints System (60-0356), last published on February 10, 2010. This notice publishes details of the modified system as set forth below under the caption, SUPPLEMENTARY INFORMATION.

DATES: The system of records notice (SORN) is applicable upon its publication in today's Federal Register, with the exception of the new routine uses, which are effective September 19, 2025.

We invite public comment on the routine uses or other aspects of this SORN. In accordance with the Privacy Act of 1974, we are providing the public a 30-day period in which to submit comments. Therefore, please submit any comments by September 19, 2025.

ADDRESSES: The public, Office of Management and Budget (OMB), and Congress may comment on this publication by writing to the Executive Director, Office of Privacy and Disclosure, Office of the General Counsel, SSA, Room G-401 West High Rise, 6401 Security Boulevard, Baltimore, Maryland 21235-6401, or through the Federal e-Rulemaking Portal at http://www.regulations.gov. Please reference docket number SSA-2025-0017. All comments we receive will be available for public inspection at the above address and we will post them to http://www.regulations.gov.

FOR FURTHER INFORMATION CONTACT: Tristin Dorsey, Government Information Specialist, Privacy Implementation Division, Office of Privacy and Disclosure, Office of the General Counsel, SSA, Room G-401 West High Rise, 6401 Security Boulevard, Baltimore, Maryland 21235-6401, telephone: (410) 966-5855, email: OGC.OPD.SORN@ssa.gov.

SUPPLEMENTARY INFORMATION: We are updating the system location and manager to reflect the accurate SSA office. We are revising the purpose, categories of individuals, and existing routine use Nos. 2, 3, 4, 5, 6, 9, 10, 11, 12, and 14 for easier reading.

In addition, we are revising the categories of records and policies and practices for the retrieval of records to remove gender references, in compliance with Executive Order 14168, Defending Women from Gender Ideology Extremism and Restoring Biological Truth to the Federal Government. We are revising the policies and practices for the retention and disposal of records to reflect the accurate records schedule.

Lastly, we are modifying the administrative, technical, and physical safeguards for easier reading. We are modifying the notice throughout to correct miscellaneous stylistic formatting and typographical errors of the previously published notice, and to ensure the language reads consistently across multiple systems. We are republishing the entire notice for ease of reference.

In accordance with 5 U.S.C. 552a(r), we have provided a report to OMB and Congress on this modified system of records.

Matthew Ramsey,
Executive Director, Office of Privacy and Disclosure, Office of the General Counsel.

SYSTEM NAME AND NUMBER:

Administrative Law Judge/Public Alleged Misconduct Complaints System (ALJ/PAMC), 60-0356.

SECURITY CLASSIFICATION:

Unclassified.

SYSTEM LOCATION:

All SSA Office of Hearings Operations regional offices and the Office of Chief Administrative Law Judge (See Appendix F at https://www.ssa.gov/privacy/sorn/app_f.htm for hearings and appeals addresses).

SYSTEM MANAGER(S):

Social Security Administration, Deputy Commissioner for Disability Adjudication, Office of Hearings Operations, 6401 Security Boulevard, Baltimore, MD 21235-6401, (410) 966-5855.

AUTHORITY FOR MAINTENANCE OF THE SYSTEM:

Sections 205 and 1631(d)(1) of the Social Security Act, as amended.

PURPOSE(S) OF THE SYSTEM:

We use the information in this system of records to manage, monitor, and respond to complaints filed against ALJs. We will also use the information to process, review, or investigate complaints filed; improve customer service; reduce manual work; and identify patterns of improper ALJ behavior that may require further review and action, and may assist SSA in deterring recurring incidences of ALJ bias or misconduct.

CATEGORIES OF INDIVIDUALS COVERED BY THE SYSTEM:

This system maintains information on ALJs accused of misconduct or bias in connection with processing a claimant's case and the claimant who was the subject of the alleged misconduct or bias. If the claimant's advocate or representative files a complaint that an ALJ is biased against them, it may also cover a claimant's advocate or representative.

CATEGORIES OF RECORDS IN THE SYSTEM:

This system maintains records on the complainant and their advocate or representative. This includes, but is not limited to name, Social Security number (SSN), date of birth, address, relevant claims-related information, sex, and race and ethnicity (if provided and is a basis for the complaint).

This system maintains records on the ALJ associated with the complaint, including, but not limited to name, ALJ assigned number, and internal agency tracking and control log numbers.

This system also maintains records on complaints filed against ALJs; information gathered in processing, reviewing, or investigating such complaints; results of the review or investigation; case analyses; information related to the hearings office, regional office, and the ALJ's duty station; information related to the alleged complaint; the Federal court, if a complaint is raised at the Federal court level; and copies of relevant correspondence.

RECORD SOURCE CATEGORIES:

We obtain information in this system from the complaint filed by the claimant or their advocate or representative, if any; a congressional office regarding a claimant and a particular ALJ; documentation that SSA develops during our review or investigation of a complaint; and SSA's Appeals Council.

ROUTINE USES OF RECORDS MAINTAINED IN THE SYSTEM, INCLUDING CATEGORIES OF USERS AND PURPOSES OF SUCH USES:

We will disclose records pursuant to the following routine uses; however, we will not disclose any information defined as “return or return information” under 26 U.S.C. 6103 of the Internal Revenue Code (IRC), unless authorized by a statute, the Internal Revenue Service (IRS), or IRS regulations.

1. To the Office of the President, in response to an inquiry from that office made on behalf of, and at the request of, the subject of the record or a third party acting on the subject's behalf.

2. To a congressional office in response to an inquiry from that office made on behalf of, and at the request of, the subject of the record.

3. To the Department of Justice (DOJ), a court or other tribunal, or another party before such court or tribunal, when:

(a) SSA, or any component thereof; or

(b) any SSA employee in the employee's official capacity; or

(c) any SSA employee in the employee's individual capacity where DOJ (or SSA, where it is authorized to do so) has agreed to represent the employee; or

(d) the United States or any agency thereof where we determine the litigation is likely to affect SSA or any of its components, SSA is a party to the litigation or has an interest in such litigation, and SSA determines that the use of such records by DOJ, a court or other tribunal, or another party before the tribunal is relevant and necessary to the litigation, provided, however, that in each case, we determine that such disclosure is compatible with the purpose for which the records were collected.

4. To student volunteers, individuals working under a personal services contract, and other workers who technically do not have the status of Federal employees, when they are performing work for us, as authorized by law, and they need access to personally identifiable information (PII) in our records in order to perform their assigned agency functions.

5. To the Equal Employment Opportunity Commission, when requested in connection with an investigation into alleged or possible discriminatory practices in the Federal sector, examination of Federal affirmative employment programs, compliance by Federal agencies with Uniform Guidelines on Employee Selection Procedures, or other functions vested in the Commission.

6. To the Federal Labor Relations Authority, its General Counsel, the Federal Mediation and Conciliation Service, the Federal Service Impasses Panel, or an arbitrator when information is requested in connection with investigations of allegations of unfair practices, matters before an arbitrator or the Federal Service Impasses Panel.

7. To the Office of Personnel Management, the Merit Systems Protection Board, or the Office of the Special Counsel, when they request information in connection with appeals, special studies of the civil service and other merit systems, review of those agencies' rules and regulations, investigation of alleged or possible prohibited personnel practices, and for other such functions of these agencies as may be authorized by law.

8. To Federal, State, and local law enforcement agencies and private security contractors, as appropriate, information necessary:

(a) to enable them to ensure the safety of our employees and customers, the security of our workplace, and the operation of our facilities; or

(b) to assist investigations or prosecutions with respect to activities that affect such safety and security or activities that disrupt the operation of our facilities.

9. To contractors and other Federal agencies, as necessary, for assisting SSA in the efficient administration of its programs. We will disclose information under this routine use only in situations in which SSA may enter into a contractual or similar agreement with a third party to assist in accomplishing an agency function relating to this system of records.

10. To appropriate agencies, entities, and persons when:

(a) SSA suspects or has confirmed that there has been a breach of the system of records;

(b) SSA has determined that, as a result of the suspected or confirmed breach, there is a risk of harm to individuals, SSA (including its information systems, programs, and operations), the Federal Government, or national security; and

(c) the disclosure made to such agencies, entities, and persons is reasonably necessary to assist in connection with SSA's efforts to respond to the suspected or confirmed breach or to prevent, minimize, or remedy such harm.

11. To an appropriate licensing organization or Bar association responsible for investigating, prosecuting, enforcing or implementing standards for maintaining a professional licensing or Bar membership, if SSA becomes aware of a violation or potential violation of professional licensing or Bar association requirements.

12. To a Federal, State, or local agency maintaining civil, criminal, or other relevant enforcement records or other pertinent records, such as current licenses, if necessary, to obtain a record relevant to an Agency decision concerning the hiring or retention of an employee, the issuance of a security clearance, the awarding of a contract, or the issuance of a license, grant, or other benefit.

13. To officials of labor organizations recognized under 5 U.S.C. chapter 71 when relevant and necessary to their duties of exclusive representation concerning personnel policies, practices, and matters affecting conditions of employment.

14. To the National Archives and Records Administration (NARA) under 44 U.S.C. 2904 and 2906.

15. To another Federal agency or Federal entity, when we determine that information from this system of records is reasonably necessary to assist the recipient agency or entity in:

(a) responding to a suspected or confirmed breach; or

(b) preventing, minimizing, or remedying the risk of harm to individuals, the recipient agency or entity (including its information systems, programs, and operations), the Federal Government, or national security, resulting from a suspected or confirmed breach.

POLICIES AND PRACTICES FOR STORAGE OF RECORDS:

We maintain records in this system in paper and electronic form.

POLICIES AND PRACTICES FOR RETRIEVAL OF RECORDS:

We will retrieve records by the name of the ALJ (who is the subject of the complaint), the ALJ's assigned numerical identifier, and the hearings or regional office where the ALJ is stationed; the claimant's name, SSN, date of birth, address, sex, and race or ethnic background, if the information is available; the advocate or representative's name (if any) and any other identifiable information pertaining to the complaint filed; tracking number and complaint/claims-related information; the congressional office associated with the complaint; and Appeals Council code.

POLICIES AND PRACTICES FOR RETENTION AND DISPOSAL OF RECORDS:

In accordance with NARA rules codified at 36 CFR 1225.16, we maintain records in accordance with approved NARA General Records Schedule 4.1, item 150.

ADMINISTRATIVE, TECHNICAL, AND PHYSICAL SAFEGUARDS:

We retain electronic and paper files containing personal identifiers in secure storage areas accessible only by authorized individuals, including our employees and contractors, who have a need for the information when performing their official duties. Security measures include, but are not limited to, the use of codes and profiles, personal identification numbers and passwords, and personal identification verification cards. We restrict access to specific correspondence within the system based on assigned roles and authorized users. We use audit mechanisms to record sensitive transactions as an additional measure to protect information from unauthorized disclosure or modification.

We annually provide authorized individuals, including our employees and contractors, with appropriate security awareness training that includes reminders about the need to protect PII and the criminal penalties that apply to unauthorized access to, or disclosure of, PII (5 U.S.C. 552a(i)(1)). Furthermore, authorized individuals with access to databases maintaining PII must annually sign a sanctions document that acknowledges their accountability for inappropriately accessing or disclosing such information.

RECORD ACCESS PROCEDURES:

Individuals may submit requests for information about whether this system contains a record about them by submitting a written request to the system manager at the above address, which includes their name, SSN, or other information that may be in this system of records that will identify them. Individuals requesting notification of, or access to, a record by mail must include: (1) a notarized statement to us to verify their identity; or (2) must certify in the request that they are the individual they claim to be and that they understand that the knowing and willful request for, or acquisition of, a record pertaining to another individual under false pretenses is a criminal offense.

Individuals requesting notification of, or access to, records in person must provide their name, SSN, or other information that may be in this system of records that will identify them, as well as provide an identity document, preferably with a photograph, such as a driver's license. Individuals lacking identification documents sufficient to establish their identity must certify in writing that they are the individual they claim to be and that they understand that the knowing and willful request for, or acquisition of, a record pertaining to another individual under false pretenses is a criminal offense.

These procedures are in accordance with our regulations at 20 CFR 401.40 and 401.45.

CONTESTING RECORD PROCEDURES:

Same as record access procedures. Individuals should also reasonably identify the record, specify the information they are contesting, and state the corrective action sought and the reasons for the correction with supporting justification showing how the record is incomplete, untimely, inaccurate, or irrelevant. These procedures are in accordance with our regulations at 20 CFR 401.65(a).

NOTIFICATION PROCEDURES:

Same as records access procedures. These procedures are in accordance with our regulations at 20 CFR 401.40 and 401.45.

EXEMPTIONS PROMULGATED FOR THE SYSTEM:

None.

HISTORY:

73 FR 8171 (February 23, 2010), Administrative Law Judge/Public Alleged Misconduct Complaints.

83 FR 54969 (November 1, 2018), Administrative Law Judge/Public Alleged Misconduct Complaints.

[FR Doc. 2025-15844 Filed 8-19-25; 8:45 am]

BILLING CODE 4191-02-P